DEPARTMENT OF HEALTH AND HUMAN SERVICES

National Institutes of Health

National Institute of Environmental Health Sciences; Amended Notice of Meeting

Notice is hereby given of a change in the meeting of the National Institute of Environmental Health Sciences Special Emphasis Panel, April 01, 2020, 01:00 p.m. to April 01, 2020, 04:00 p.m., NIEHS, Keystone, 530 Davis Drive, Durham, NC 27709 which was published in the Federal Register on February 10, 2020, 85 FRN 5460.

The April 01, 2020 NIEHS Special Emphasis Panel Meeting is being amended due to a change in the meeting format. This one day meeting is being changed from an in-person meeting to a teleconference meeting. The meeting is closed to the public.

Dated: March 18, 2020.
Tyeshia M. Roberson,
Program Analyst, Office of Federal Advisory Committee Policy.

[FR Doc. 2020-06133 Filed 3-23-20; 8:45 am]

BILLING CODE 4140-01-P